DEPARTMENT OF THE INTERIOR

National Park Service

30-Day Notice of Submission of Study Package to the Office of Management and Budget; Opportunity for Public Comment (OMB #1024-xxxx, “2007 National Park Service Comprehensive Survey of the American Public”)

AGENCY: Department of the Interior, National Park Service.

ACTION: Notice and request for comments.

SUMMARY: Under the provisions of the Paperwork Reduction Act of 1995 and 5 CFR Part 1320, Reporting and Recordkeeping Requirements, the National Park Service (NPS) invites public comments on a proposed new collection of information (OMB# 1024-xxxx). The 30-Day Federal Register Notice for this collection of information was published on August 28, 2007 (Volume 72, Number 166, Pages 49303-49305). There are a few corrections that need to be added to the previous publication of this Federal Register Notice. Under the heading Estimated average number of respondents, the words that should be added at the end are “and 4750 non-respondents”. Under the heading Estimated average number of responses, the answer should be: 8,794 responses (4,044 respondents and 4,750 non-respondents). Under the heading Estimated average time burden per respondent, the information that should be added should read “Non-respondents: 1 minute/respondent”. Under the heading Estimated total annual reporting burden, the information should be 1,144 hours. If you have any questions or concerns regarding this matter, please contact Mr. Leonard E. Stowe, NPS, Information Collection Clearance Office, 1849 C St., NW., (2605), Washington, DC 20240; or via fax at 202/371-1427; or via e-mail at leonard_stowe@nps.gov.

Dated: August 30, 2007.
Leonard E. Stowe,
NPS, Information Collection Clearance Office.

[FR Doc. 07-4413 Filed 9-7-07; 8:45 am]

BILLING CODE 4312-52-M